DEPARTMENT OF HOUSING AND URBAN DEVELOPMENT

[Docket No. FR-5125-N-30]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Veronica Rines, Department of the Army, Office of the Assistant Chief of Staff for Installation Management, Attn: DAIM-ZS, Rm 8536, 2511 Jefferson Davis Hwy., Arlington, VA 22202; (703) 601-2545; Coast Guard: Commandant, U.S. Coast Guard, Attn: Teresa Sheinberg, 2100 Second St, SW., Rm 6109, Washington, DC 20593-0001; (202 267-6142; Energy: Mr. John Watson, Department of Energy, Office of Engineering & Construction Management, ME-90, 1000 Independence Ave, SW., Washington, DC 20585: (202) 586-0072; GSA: Mr. John E.B. Smith, Deputy Assistant Commissioner, General Services Administration, Office of Property Disposal, 18th and F Streets, NW., Washington, DC 20405; (202) 501-0084; Interior: Mr. Michael Wright, Acquisition & Property Management, Department of the Interior, 1849 C Street, NW., MS2603, Washington, DC 20240; (202) 513-0747; Navy: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: July 19, 2007.
Mark R. Johnston,
Deputy Assistant Secretary for Special Needs.

Title V, Federal Surplus Property Program Federal Register Report for 07/27/2007

Suitable/Available Properties

Building

California

Bldg. 00574,

Moffett Field,

Santa Clara, CA 94035.

Landholding Agency: Army.

Property Number: 21200720100.

Status: Unutilized.

Comments: 2304 sq. ft., most recent use—storage, off-site use only.

Bldg. 07080,

Moffett Field,

Santa Clara, CA 94035.

Landholding Agency: Army.

Property Number: 21200720101.

Status: Unutilized.

Comments: 5956 sq. ft., presence of asbestos/lead paint, most recent use—housing, off-site use only.

Colorado

Ward Lake Storage Bldg.,

Grand Mesa Natl Forest,

Delta, CO.

Landholding Agency: GSA.

Property Number: 54200730006.

Status: Surplus.

GSA Number: 7-A-CO-0665.

Comments: 241 sq. ft., off-site use only.

Suitable/Available Properties

Building

Maine

Border Patrol Station,

4 Heald Stream Road,

Somerset, ME 04945.

Landholding Agency: GSA.

Property Number: 54200730003.

Status: Excess.

GSA Number: 1-X-ME-0685-2A.

Comments: 1717 sq. ft. office and garage, possible asbestos/lead paint.

Maryland

Bldg. 00255,

Aberdeen Proving Ground,

Harford, MD 21005.

Landholding Agency: Army.

Property Number: 21200720052.

Status: Unutilized.

Comments: 64 sq. ft., most recent use—storage, off-site use only.

Bldg. 00638,

Aberdeen Proving Ground,

Harford, MD 21005.

Landholding Agency: Army.

Property Number: 21200720053.

Status: Unutilized.

Comments: 4295 sq. ft., most recent use—storage, off-site use only.

Bldg. 00721,

Aberdeen Proving Ground,

Harford, MD.

Landholding Agency: Army.

Property Number: 21200720054.

Status: Unutilized.

Comments: 135 sq. ft., most recent use—storage, off-site use only.

Suitable/Available Properties

Building

Maryland

Bldgs. 00936, 00937,

Aberdeen Proving Ground,

Harford, MD 21005.

Landholding Agency: Army.

Property Number: 21200720055.

Status: Unutilized.

Comments: 2000 sq. ft., most recent use—storage, off-site use only.

Bldgs. E1410, E1434,

Aberdeen Proving Ground,

Harford, MD 21005.

Landholding Agency: Army.

Property Number: 21200720056.

Status: Unutilized.

Comments: 2276/3106 sq. ft., most recent use—laboratory, off-site use only.

Bldg. 03240,

Aberdeen Proving Ground,

Harford, MD 21005.

Landholding Agency: Army.

Property Number: 21200720057.

Status: Unutilized.

Comments: 10,049 sq. ft., most recent use—office, off-site use only.

Bldg. E3834,

Aberdeen Proving Ground,

Harford, MD 21005.

Landholding Agency: Army.

Property Number: 21200720058.

Status: Unutilized.

Comments: 72 sq. ft., most recent use—office, off-site use only.

Suitable/Available Properties

Building

Maryland

Bldgs. E4465, E4470, E4480,

Aberdeen Proving Ground,

Harford, MD 21005.

Landholding Agency: Army.

Property Number: 21200720059.

Status: Unutilized.

Comments: 17658/16876/17655 sq. ft., most recent use—office, off-site use only.

Bldgs. E5137, 05219,

Aberdeen Proving Ground,

Harford, MD 21005.

Landholding Agency: Army.

Property Number: 21200720060.

Status: Unutilized.

Comments: 3700/8175 sq. ft., most recent use—office, off-site use only.

Bldg. E5236,

Aberdeen Proving Ground,

Harford, MD 21005.

Landholding Agency: Army.

Property Number: 21200720061.

Status: Unutilized.

Comments: 10,325 sq. ft., most recent use—storage, off-site use only.

Bldg. E5282,

Aberdeen Proving Ground,

Harford, MD 21005.

Landholding Agency: Army.

Property Number: 21200720062.

Status: Unutilized.

Comments: 4820 sq. ft., most recent use—hazard bldg., off-site use only.

Suitable/Available Properties

Building

Maryland

Bldgs. E5736, E5846, E5926,

Aberdeen Proving Ground,

Harford, MD 21005.

Landholding Agency: Army.

Property Number: 21200720063.

Status: Unutilized.

Comments: 1069/4171/11279 sq. ft., most recent use—storage, off-site use only.

Bldg. E6890,

Aberdeen Proving Ground,

Harford, MD 21005.

Landholding Agency: Army.

Property Number: 21200720064.

Status: Unutilized.

Comments: 1 sq. ft., most recent use—impact area, off-site use only.

New Hampshire

Modular Offices 43006/43007,

271 Mast Road,

Durham, NH 03824.

Landholding Agency: GSA.

Property Number: 54200730004.

Status: Surplus.

GSA Number: 1-A-NH-0497-1A.

Comments: 684 sq. ft. each, most recent use—office space, off-site use only.

Suitable/Available Properties

Building

Texas

Bldgs. 04281, 04283,

Fort Hood,

Bell, TX 76544.

Landholding Agency: Army.

Property Number: 21200720085.

Status: Excess.

Comments: 4000/8020 sq. ft., most recent use—storage shed, off-site use only.

Bldg. 04284,

Fort Hood,

Bell, TX 76544.

Landholding Agency: Army.

Property Number: 21200720086.

Status: Excess.

Comments: 800 sq. ft., presence of asbestos, most recent use—storage shed, off-site use only.

Bldg. 04285,

Fort Hood,

Bell, TX 76544.

Landholding Agency: Army.

Property Number: 21200720087.

Status: Excess.

Comments: 8000 sq. ft., most recent use—storage shed, off-site use only.

Bldg. 04286,

Fort Hood,

Bell, TX 76544.

Landholding Agency: Army.

Property Number: 21200720088.

Status: Excess.

Comments: 36,000 sq. ft., presence of asbestos, most recent use—storage shed, off-site use only.

Suitable/Available Properties

Building

Texas

Fort Hood,

Bell, TX 76544.

Landholding Agency: Army.

Property Number: 21200720089.

Status: Excess.

Comments: 6400 sq. ft., presence of asbestos, most recent use—storage shed, off-site use only.

Bldg. 4410,

Fort Hood,

Bell, TX 76544.

Landholding Agency: Army.

Property Number: 21200720090.

Status: Excess.

Comments: 12,956 sq. ft., presence of asbestos, most recent use—simulation center, off-site use only.

Bldgs. 10031, 10032, 10033,

Fort Hood,

Bell, TX 76544.

Landholding Agency: Army.

Property Number: 21200720091.

Status: Excess.

Comments: 2578/3383 sq. ft., presence of asbestos, most recent use—admin., off-site use only.

Bldgs. 56524, 56532,

Fort Hood,

Bell, TX 76544.

Landholding Agency: Army.

Property Number: 21200720092.

Status: Excess.

Comments: 600 sq. ft., presence of asbestos, most recent use—dining, off-site use only.

Suitable/Available Properties

Building

Texas

Bldg. 56435,

Fort Hood,

Bell, TX 76544.

Landholding Agency: Army.

Property Number: 21200720093.

Status: Excess.

Comments: 3441 sq. ft., presence of asbestos, most recent use—barracks, off-site use only.

Bldg. 05708,

Fort Hood,

Bell, TX 76544.

Landholding Agency: Army.

Property Number: 21200720094.

Status: Excess.

Comments: 1344 sq. ft., most recent use—community center, off-site use only.

Bldg. 90001,

Fort Hood,

Bell, TX 76544.

Landholding Agency: Army.

Property Number: 21200720095.

Status: Excess.

Comments: 3574 sq. ft., presence of asbestos, most recent use—transmitter bldg., off-site use only.

Bldg. 90060,

Fort Hood,

Bell, TX 76544.

Landholding Agency: Army.

Property Number: 21200720096.

Status: Excess.

Comments: 96 sq. ft., presence of asbestos, most recent use—lab, off-site use only.

Suitable/Available Properties

Building

Texas

Bldgs. 90063, 90064, 90065,

Fort Hood,

Bell, TX 76544.

Landholding Agency: Army.

Property Number: 21200720097.

Status: Excess.

Comments: 1519/1798/1800 sq. ft., presence of asbestos, most recent use—lab, off-site use only.

Bldg. 90066,

Fort Hood,

Bell, TX 76544.

Landholding Agency: Army.

Property Number: 21200720098.

Status: Excess.

Comments: 8107 sq. ft., presence of asbestos, most recent use—equipment bldg., off-site use only.

Bldg. 93013,

Fort Hood,

Bell, TX 76544.

Landholding Agency: Army.

Property Number: 21200720099.

Status: Excess.

Comments: 800 sq. ft., most recent use—club, off-site use only.

Suitable/Available Properties

Building

Virginia

Fort Story,

Ft. Story, VA 23459.

Landholding Agency: Army.

Property Number: 21200720065.

Status: Unutilized.

Comments: 525 sq. ft., most recent use—power plant, off-site use only.

Bldg. 00942,

Fort Story,

Ft. Story, VA 23459.

Landholding Agency: Army.

Property Number: 21200720066.

Status: Unutilized.

Comments: 84 sq ft., most recent use—shower, off-site use only.

Bldg. 01025,

Fort Story,

Ft. Story, VA 23459.

Landholding Agency: Army.

Property Number: 21200720070.

Status: Unutilized.

Comments: 4800 sq. ft., most recent use—admin., off-site use only.

Bldg. 01028,

Fort Story,

Ft. Story, VA 23459.

Landholding Agency: Army.

Property Number: 21200720071.

Status: Unutilized.

Comments: 2398 sq. ft., most recent use—admin., off-site use only.

Suitable/Available Properties

Building

Virginia

Bldg. 01633,

Fort Eustis,

Ft. Eustis, VA 23604.

Landholding Agency: Army.

Property Number: 21200720076.

Status: Unutilized.

Comments: 240 sq. ft., most recent use—storage, off-site use only.

Bldg. 02786,

Fort Eustis,

Ft. Eustis, VA 23604.

Landholding Agency: Army

Property Number: 21200720084

Status: Unutilized.

Comments: 1596 sq. ft., most recent use—admin., off-site use only.

Land

Colorado

0.05 acres,

Paonia Project,

Hotchkiss, CO 81419.

Landholding Agency: Interior.

Property Number: 61200730005.

Status: Excess.

Comments: access restriction.

Suitable/Available Properties

Land

Kentucky

Tract V—Parcel B,

3301 Leestown Road,

Lexington, KY 40511.

Landholding Agency: GSA.

Property Number: 54200730002.

Status: Excess.

GSA Number: 4-G-KY-0528-1B.

Comments: 52 acres w/landfill monitored by Bureau of Prisons IAW Kentucky Dept. of Env. Protection regulations.

Suitable/Unavailable Properties

Building

Virginia

Bldg. 01014,

Fort Story,

Ft. Story, VA 23459.

Landholding Agency: Army.

Property Number: 21200720067.

Status: Unutilized.

Comments: 1014 sq. ft., most recent use—admin., off-site use only.

Bldg. 01022,

Fort Story,

Ft. Story, VA 23459.

Landholding Agency: Army.

Property Number: 21200720068.

Status: Unutilized.

Comments: 2398 sq. ft., most recent use—dining, off-site use only.

Suitable/Unavailable Properties

Building

Virginia

4 Bldgs.,

Fort Story,

01023, 01029, 01036, 01038,

Ft. Story, VA 23459.

Landholding Agency: Army.

Property Number: 21200720069.

Status: Unutilized.

Comments: 4800 sq. ft., most recent use—barracks, off-site use only.

Bldg. 01063,

Fort Story,

Ft. Story, VA 23459.

Landholding Agency: Army.

Property Number: 21200720072.

Status: Unutilized.

Comments: 2000 sq. ft., most recent use—storage, off-site use only.

Bldg. 00215,

Fort Eustis,

Ft. Eustis, VA 23604.

Landholding Agency: Army.

Property Number: 21200720073.

Status: Unutilized.

Comments: 2540 sq. ft., most recent use—admin., off-site use only.

4 Bldgs.,

Fort Eustis,

01514, 01523, 01528, 01529,

Ft. Eustis, VA 23604.

Landholding Agency: Army.

Property Number: 21200720074.

Status: Unutilized.

Comments: 4720 sq. ft., most recent use—admin., off-site use only.

Suitable/Unavailable Properties

Building

Virginia

4 Bldgs.,

Fort Eustis,

01534, 01542, 01549, 01557,

Ft. Eustis, VA 23604.

Landholding Agency: Army.

Property Number: 21200720075.

Status: Unutilized.

Comments: 4720 sq. ft., most recent use—admin., off-site use only.

Bldgs. 01707, 01719,

Fort Eustis,

Ft. Eustis, VA 23604.

Landholding Agency: Army.

Property Number: 21200720077.

Status: Unutilized.

Comments: 4720 sq. ft., most recent use—admin., off-site use only.

Bldg. 01720,

Fort Eustis,

Ft. Eustis, VA 23604.

Landholding Agency: Army.

Property Number: 21200720078.

Status: Unutilized.

Comments: 1984 sq. ft., most recent use—admin., off-site use only.

Bldgs. 01721, 01725,

Fort Eustis,

Ft. Eustis, VA 23604.

Landholding Agency: Army.

Property Number: 21200720079.

Status: Unutilized.

Comments: 4720 sq. ft., most recent use—admin., off-site use only.

Suitable/Unavailable Properties

Building

Virginia

Bldgs. 01726, 01735, 01736,

Fort Eustis,

Ft. Eustis, VA 23604.

Landholding Agency: Army.

Property Number: 21200720080.

Status: Unutilized.

Comments: 1144 sq. ft., most recent use—admin., off-site use only.

Bldgs. 01734, 01745, 01747,

Fort Eustis,

Ft. Eustis, VA 23604.

Landholding Agency: Army.

Property Number: 21200720081.

Status: Unutilized.

Comments: 4720 sq. ft., most recent use—admin., off-site use only.

Bldg. 01741,

Fort Eustis,

Ft. Eustis, VA 23604.

Landholding Agency: Army.

Property Number: 21200720082.

Status: Unutilized.

Comments: 1984 sq. ft., most recent use—admin., off-site use only.

Bldg. 02720,

Fort Eustis,

Ft. Eustis, VA 23604.

Landholding Agency: Army.

Property Number: 21200720083.

Status: Unutilized.

Comments: 400 sq. ft., most recent use—storage, off-site use only.

Unsuitable Properties

Building

Alaska

Bldgs. K07, K15,

Air Station,

Sitka, AK 99835.

Landholding Agency: Coast Guard.

Property Number: 88200730001.

Status: Unutilized.

Reasons: Extensive deterioration.

Arizona

Mobile Home,

Walnut Canyon,

Coconino, AZ 86004.

Landholding Agency: Interior.

Property Number: 61200730002.

Status: Excess.

Reasons: Extensive deterioration.

Unsuitable Properties

Building

Connecticut

4 Bldgs.,

Naval Submarine Base,

35, 37, 119, 124,

New London, CT 06349.

Landholding Agency: Navy.

Property Number: 77200730001.

Status: Unutilized.

Reasons: Secured Area Within 2000 ft. of flammable or explosive material.

4 Bldgs.,

Naval Submarine Base,

149, 161, 165, 172,

New London, CT 06349.

Landholding Agency: Navy.

Property Number: 77200730002.

Status: Unutilized.

Reasons: Secured Area Within 2000 ft. of flammable or explosive material.

Bldgs. 223, 341,

Naval Submarine Base,

New London, CT 06349.

Landholding Agency: Navy.

Property Number: 77200730003.

Status: Unutilized.

Reasons: Secured Area Within 2000 ft. of flammable or explosive material.

Unsuitable Properties

Building

Connecticut

4 Bldgs.,

Naval Submarine Base,

353, 379, 385, 397,

New London, CT 06349.

Landholding Agency: Navy.

Property Number: 77200730004.

Status: Unutilized.

Reasons: Within 2000 ft. of flammable or explosive material Secured Area.

5 Bldgs.,

Naval Submarine Base,

400, 405, 408, 409, 411,

New London, CT 06349.

Landholding Agency: Navy.

Property Number: 77200730005.

Status: Unutilized.

Reasons: Secured Area Within 2000 ft. of flammable or explosive material.

Bldgs. 442, 447,

Naval Submarine Base,

New London, CT 06349.

Landholding Agency: Navy.

Property Number: 77200730006.

Status: Unutilized.

Reasons: Secured Area Within 2000 ft. of flammable or explosive material.

Unsuitable Properties

Building

Connecticut

4 Bldgs.,

Naval Submarine Base,

450, 453, 479, 491,

New London, CT 06349.

Landholding Agency: Navy.

Property Number: 77200730007.

Status: Unutilized.

Reasons: Secured Area Within 2000 ft. of flammable or explosive material.

Bldgs. D, M,

Naval Submarine Base,

New London, CT 06349.

Landholding Agency: Navy.

Property Number: 77200730008.

Status: Unutilized.

Reasons: Within 2000 ft. of flammable or explosive material, Secured Area.

Structures A86, A87,

Naval Submarine Base,

New London, CT 06349.

Landholding Agency: Navy.

Property Number: 77200730009.

Status: Unutilized.

Reasons: Secured Area Within 2000 ft. of flammable or explosive material.

Unsuitable Properties

Building

Connecticut

4 Structures,

Naval Submarine Base,

336, 377, 378, 452,

New London, CT 06349.

Landholding Agency: Navy.

Property Number: 77200730010.

Status: Unutilized.

Reasons: Secured Area Within 2000 ft. of flammable or explosive material.

Idaho

8 Buildings,

Palmer Residence,

Montour, ID.

Landholding Agency:

Interior.

Property Number: 61200730004.

Status: Unutilized.

Reasons: Extensive deterioration.

Illinois

Army Reserve Center, 622 Railroad Street,

Joliet, IL.

Landholding Agency:

GSA.

Property Number: 54200730001.

Status: Excess.

GSA Number: 1-IL-734.

Reasons: Within 2000 ft. of flammable or explosive material.

Unsuitable Properties

Building

New Mexico

Bldgs. 807, 6017 CAMU2 & CAMU3,

Sandia Natl. Laboratories,

Albuquerque, NM 87185.

Landholding Agency:

Energy.

Property Number: 41200730001.

Status: Unutilized.

Reasons: Secured Area.

New York

Bldgs. 13, 14,

Mitchell Field,

Garden City, NY 11530.

Landholding Agency:

Navy.

Property Number: 77200730011.

Status: Unutilized.

Reasons: Extensive deterioration.

Tennessee

Bldg. 142,

Big South Fork,

Oneida, TN 37841.

Landholding Agency:

Interior.

Property Number: 61200730003.

Status: Unutilized.

Reasons: Extensive deterioration.

Unsuitable Properties

Building

Washington

No. 80,

Prosser, Co: Yakima, WA 99350.

Landholding Agency:

Interior.

Property Number: 61200730006.

Status: Unutilized.

Reasons: Extensive deterioration.

Garage,

Browns Point Light Station,

Tacoma, WA 99207.

Landholding Agency:

Coast Guard.

Property Number: 88200730002.

Status: Unutilized.

Reasons: Extensive deterioration.

Land

Indiana

Access Site,

Grandview, Co: Spencer, IN.

Landholding Agency:

GSA.

Property Number: 54200730005.

Status: Excess.

GSA Number: 1-D-IN-599.

Reasons: Floodway.

[FR Doc. E7-14318 Filed 7-26-07; 8:45 am]

BILLING CODE 4210-67-P